DEPARTMENT OF THE INTERIOR

Bureau of Land Management

[LLID9570000.LL14200000.BJ0000]

Idaho: Filing of Plats of Survey

AGENCY: Bureau of Land Management, Interior.

ACTION: Notice of Filing of Plats of Surveys.

SUMMARY: The Bureau of Land Management (BLM) has officially filed the plat of survey of the lands described below in the BLM Idaho State Office, Boise, Idaho, effective 9:00 a.m., on the date specified.

FOR FURTHER INFORMATION CONTACT: Bureau of Land Management, 1387 South Vinnell Way, Boise, Idaho 83709-1657.

SUPPLEMENTARY INFORMATION: This survey was executed at the request of the U.S. Fish and Wildlife Service to meet their administrative needs. The lands surveyed are: The plat constituting the entire survey record of the survey of certain islands in the Snake River, T. 1 S., R. 2 W. and T. 1 S., R. 3 W., Boise Meridian, Idaho, was accepted October 13, 2010.

SUMMARY: The Bureau of Land Management (BLM) will file the plat of survey of the lands described below in the BLM Idaho State Office, Boise, Idaho, 30 days from the date of publication in the Federal Register. This survey was executed at the request of the U.S. Fish and Wildlife Service to meet certain administrative and management purposes.

Dated: October 20, 2010.
Jeff A. Lee,
Acting Chief Cadastral Surveyor for Idaho.

[FR Doc. 2010-27348 Filed 10-28-10; 8:45 am]

BILLING CODE 4310-GG-P